DEPARTMENT OF HEALTH AND HUMAN SERVICES

Office of the Secretary

Alternative Fuel Vehicle Acquisition Reports

AGENCY: Department of Health and Human Services (HHS).

ACTION: Notice of availability.

Pursuant to 42 United States Code 13218 (b), the Department of Health and Human Services gives notice that the Department's 1999-2001 alternative fuel vehicle compliance reports are available on-line at http://www.knownet.hhs.gov/log/afvcompliance.htm. The 2002 reports are being prepared and will be posted to this site.

FOR FURTHER INFORMATION CONTACT: Steve Mahaney at (202) 690-5663, or via e-mail at steve.mahaney@hhs.gov.

Dated: January 27, 2003.
Ed Sontag,
Assistant Secretary for Administration and Management.

[FR Doc. 03-3304 Filed 2-10-03; 8:45 am]

BILLING CODE 4151-17-P